DEPARTMENT OF DEFENSE

Department of the Air Force

HQ USAF Scientific Advisory Board

AGENCY: Department of the Air Force, DoD.

ACTION: Notice of meeting.

SUMMARY: Pursuant to Public Law 92-463, notice is hereby given of the forthcoming meeting of the AFOSR Review. The purpose of the meeting is to allow the SAB leadership to advise the Director on the outcome of the AFOSR Review. Because classified and contractor-proprietary information will be discussed, this meeting will be closed to the public.

DATES: August 29, 2003.

ADDRESSES: 1560 Wilson Boulevard, 4th Floor, Arlington, VA 22209.

FOR FURTHER INFORMATION CONTACT: Major Dwight Pavek, Air Force Scientific Advisory Board Secretariat, 1180 Air Force Pentagon, Rm 5D982, Washington, DC 20330-1180, (703) 697-4811.

Pamela D. Fitzgerald,
Air Force Federal Register Liaison Officer.

[FR Doc. 03-19216 Filed 7-28-03; 8:45 am]

BILLING CODE 5001-05-U